DEPARTMENT OF THE INTERIOR

Fish and Wildlife Service

[FWS-R2-ES-2008-N0311]; [20124-1113-0000-F2]

Barton Creek Office Park Environmental Assessment and Habitat Conservation Plan, Travis County, TX

AGENCY: Fish and Wildlife Service, Interior.

ACTION: Notice of Availability of an Environmental Assessment and Habitat Conservation Plan (EA/HCP).

SUMMARY: Brandywine Realty Trust (Applicant) has applied to the U.S. Fish and Wildlife Service (Service) for an incidental take permit pursuant to section 10(a) of the Endangered Species Act of 1973, as amended (Act). The Applicant has been assigned permit number TE-198648-0. The requested permit, which is for a period of 30 years, would authorize incidental take of the endangered golden-cheeked warbler (Dendroica chrysoparia). The proposed take would occur as a result of the construction and operation of the 14.83-acre Barton Creek Office Park.

DATES: To ensure consideration, we must receive written comments on or before February 17, 2009.

ADDRESSES: Persons wishing to review the application and/or EA/HCP may obtain a copy by written or telephone request to William Amy, U.S. Fish and Wildlife Service, Ecological Services Office, 10711 Burnet Road, Suite 200, Austin, TX 78758 (512/490-0057, extension 234). All documents will be available for public inspection, by written request or by appointment only, during normal business hours (8 a.m. to 4:30 p.m.) at the above address. Data or comments concerning the application and HCP should be submitted in writing to the Field Supervisor at the above address. Please refer to permit number TE-198648-0 when submitting comments.

FOR FURTHER INFORMATION CONTACT: William Amy at the above address.

SUPPLEMENTARY INFORMATION: Section 9 of the Act prohibits the “taking” of endangered species such as the golden-cheeked warbler. However, the Service, under limited circumstances, may issue permits to take endangered wildlife species incidental to, and not the purpose of, otherwise lawful activities. Regulations governing permits for endangered species are at 50 CFR 17.22.

The subject tract is located in southwest Austin, on the west side of the Capital of Texas Highway (also known as Loop 360) immediately across from the intersection of Walsh Tarlton Lane, Travis County, Texas. Habitat for the golden-cheeked warbler has been documented on and adjacent to the subject tract. An EA/HCP has been included as part of the permit application. A determination of jeopardy or non-jeopardy to the species and a decision pursuant to the National Environmental Policy Act will not be made until at least 60 days from the date of publication of this notice. This notice is provided pursuant to section 10(c) of the Act and National Environmental Policy Act regulations (40 CFR 1506.6).

Applicant: Brandywine Realty Trust plans to construct and operate a commercial development on the 14.83-acre tract and pay Travis County an amount equal to 79.47 acres (the proposed alternative's mitigation acreage) multiplied by the Balcones Canyonlands Conservation Plan's (the “BCCP”) fee level under its Alternative Process option (currently $6,500 per acre) in effect at the time of such payment. Payment shall be made prior to initiation of clearing activities for the development.

In the event that the Alternative Process fee option becomes unavailable, the Applicant will provide funding in the amount of $516,555 toward the acquisition of 79.47 acres of land within the Balcones Canyonlands Preserve (BCP) acquisition area.

The EA/HCP was prepared to consider the impacts of the proposed action on the human environment and to address impacts to listed species as a result of developing the subject tract. This document describes the impacts to the golden-cheeked warbler that would likely result from the development, steps the Applicant would take to minimize and mitigate such impacts to the maximum extent practicable, the funding available to implement those steps, and the alternatives that have been considered.

Thomas L. Baur,
Acting Regional Director, Region 2.

[FR Doc. E8-30038 Filed 12-17-08; 8:45 am]

BILLING CODE 4310-55-P